DEPARTMENT OF DEFENSE

Department of the Army; Corps of Engineers

Coastal Engineering Research Board (CERB)

AGENCY: Department of the Army, DoD.

ACTION: Notice of meeting.

SUMMARY: In accordance with section 10(a)(2) of the Federal Advisory Committee Act (Pub. L. 92-463), announcement is made of the following committee meeting:

Name of Committee: Coastal Engineering Research Board (CERB).

Date of Meeting: October 11-13, 2006.

Place: Ocean Place Resort and Spa, One Ocean Boulevard, Long Branch, NJ 07740.

Time: 10 a.m. to 5:30 p.m. (October 11, 2006).

8 a.m. to 5:30 p.m. (October 12, 2006).

8:30 a.m. to 12 p.m. (October 13, 2006).

FOR FURTHER INFORMATION CONTACT: Inquiries and notice of intent to attend the meeting may be addressed to Colonel Richard B. Jenkins, Executive Secretary, Commander, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: For Board members, the morning of October 11 is devoted to an overflight of the New Jersey shoreline. The afternoon of October 11 is devoted to presentations pertaining to North Atlantic Division Project-Specific Coastal Engineering Challenges. They include: Coastal Engineering Technical Challenges of the Fire Island to Montauk Point Reformulation Study; Renourishment Triggers and Emergency Fill Procedures, Technical and Policy challenges; Monitoring Challenges; Sea Level Rise Implications in New York Area; and Surfer Perspective on Corps Design on Shore Protection Projects. On Thursday morning, October 12, presentations will be made concerning Shore Protection Project Performance. These presentations include: Economic Performance of Federal Shore Protection Project, Martin County, FL; Shore Protection Project Design and Formulation Improvement; Modeling Relevant Physics of Sedimentation in 3D (MORPHOS 3D); and Communicating the Corps' Role in Coastal Zone Management. There will also be presentations concerning Coastal Planning Center of Expertise and Regional Sediment Management as it Applies to North Atlantic Division. The Honorable Frank Pallone, Jr., is scheduled to speak immediately after lunch on October 12. Presentations will also be made concerning Joint Subcommittee on Ocean Science and Technology and National Research Council Shelter Coast Final Report. Presentations concerning Coastal Environmental Restoration Challenges are also Scheduled for Thursday afternoon. They include: Collaborative Ecosystem Restoration at Jamaica Bay Marsh Islands; Collaboration with the Corps on Coastal Initiatives; and Biological Opinion on the Sea Bright to Manasquan Project, Piping Plover and Sea Beach Amaranth. Friday morning, October 13, is devoted to Board Executive Session discussing ongoing initiatives and actions.

These meetings are open to the public; participation by the public is scheduled for 4:30 p.m. on October 12.

The entire meeting is open to the public, but since seating capacity of the meeting is limited, advance notice of attendance is required. Oral participation by public attendees is encouraged during the time scheduled on the agenda; written statements may be submitted prior to the meeting or up to 30 days after the meeting.

Brenda S. Bowen,
Army Federal Register Liaison Officer.

[FR Doc. 06-8249 Filed 9-25-06; 8:45 am]

BILLING CODE 3710-61-M